DEPARTMENT OF COMMERCE

International Trade Administration

[A-549-821]

Notice of Amended Final Determination of Sales at Less Than Fair Value: Polyethylene Retail Carrier Bags From Thailand

AGENCY: Import Administration, International Trade Administration, Department of Commerce.

EFFECTIVE DATE: July 15, 2004.

FOR FURTHER INFORMATION CONTACT: Lyn Johnson or Fred Aziz, Import Administration, International Trade Administration, U.S. Department of Commerce, 14th Street and Constitution Avenue, NW., Washington, DC 20230; telephone: (202) 482-4733.

Amendment to Final Determination

In accordance with sections 735(d) and 777(i)(1) of the Tariff Act of 1930, as amended, (the Act), on June 18, 2004, the Department of Commerce published its notice of final determination of sales at less than fair value (LTFV) in the investigation of polyethylene retail carrier bags (PRCBs) from Thailand. See Notice of Final Determination of Sales at Less Than Fair Value: Polyethylene Retail Carrier Bags from Thailand, 69 FR 34122 (June 18, 2004) (Final Determination) and corresponding “Issues and Decision Memorandum” dated June 9, 2004. On June 17, 2004, Advance Polybag Inc., Alpine Plastics Inc., API Enterprises Inc., and Universal Polybag Co., Ltd. (collectively, Universal,) filed a timely allegation stating that the Department made a ministerial error in its final determination. On June 21, 2004, the Polyethylene Retail Carrier Bag Committee and its individual members, PCL Packing, Inc., Hilex Poly Co., LLC, Superbag Corp., Vanguard Plastics Inc., and Inteplast Group, Ltd. (collectively, the petitioners), filed submissions with respect to TPBG and Universal, alleging that the Department had made ministerial errors in the Final Determination. On June 25, 2004, Thai Plastic Bags Industries Co., Ltd. (TPBI), Winner's Pack Co., Ltd., and APEC Film Ltd (APEC) (collectively, the Thai Plastic Bags Industries Group (TPBG)), filed comments rebutting the petitioners' ministerial-error allegations. On June 28, 2004, Universal filed comments rebutting the petitioners' ministerial-error allegations.

After analyzing Universal's, TPBG's, and the petitioners' submissions, we have determined, in accordance with 19 CFR 351.224(e), that we made the following ministerial errors in our calculations performed for the final determination:

(1) We used the incorrect figure for Universal's CEP-profit ratio. We should have changed the CEP-profit ratio figure to reflect our decision to use TPBG's profit data for Universal in the Final Determination.

(2) We incorrectly applied the duty drawback amounts for TPBG.

(3) We did not revise the brokerage and handling amounts for TPBG correctly.

(4) We did not update the variable cost of manufacturing (COM) and total COM as a result of the changes identified in the June 9, 2004, memorandum from the Office of Accounting.

For a detailed discussion of the ministerial errors listed above, as well as the Department's analysis, see the July 8, 2004, amended final analysis memoranda for TPBG and Universal and the memorandum entitled “Antidumping Duty Investigation on Polyethylene Retail Carrier Bags from Thailand—Amended Final Analysis Memo for All-Others Rate,” dated July 8, 2004.

Therefore in accordance with 19 CFR 351.224(e), we are amending the final determination of sales at LTFV in the antidumping duty investigation of PRCBs from Thailand. The revised dumping margins are as follows:

Exporter/ manufacturer | Original final margin (percent) | Amended final margin (percent)
TPBG | 0.62 | 2.26
Universal | 5.66 | 5.35
All others | 5.66 | 2.80

Continuation of Suspension of Liquidation

In accordance with section 735(c)(1)(B) of the Act, we will instruct U.S. Customs and Border Protection (CBP) to continue to suspend liquidation of all entries of subject merchandise from Thailand (including entries of subject merchandise produced and exported by TPBG because the weighted-average margin is no longer de minimis). We will also instruct CBP to require a cash deposit or the posting of a bond equal to the estimated amount by which the normal value exceeds the U.S. price as indicated in the chart above. These instructions suspending liquidation will remain in effect until further notice.

This determination is issued and published pursuant to sections 735(d) and 777(i)(1) of the Act.

Dated: July 7, 2004.
James J. Jochum,
Assistant Secretary for Import Administration.

[FR Doc. 04-15980 Filed 7-14-04; 8:45 am]

BILLING CODE 3510-DS-P